DEPARTMENT OF AGRICULTURE

Forest Service

TwoBee Landscape Management Project, Willamette National Forest, Linn County, OR

AGENCY: Forest Service, USDA.

ACTION: Cancellation notice.

SUMMARY: June 29, 1999, a Notice of Intent (NOI) to prepare an environmental impact statement for the TwoBee Landscape Management Project on the McKenzie River Ranger District of the Willamette National Forest was published in the Federal Register (64 FR 34769). The 1999 NOI is hereby rescinded.

FOR FURTHER INFORMATION CONTACT: Al Brown, TwoBee Project Leader, McKenzie River Ranger District, 57600 McKenzie Highway, McKenzie Bridge, Oregon 97413, phone 541-822-3381.

Dated: July 29, 2002.
John Allen,
District Ranger.

[FR Doc. 02-20944 Filed 8-16-02; 8:45 am]

BILLING CODE 3410-11-M